DEPARTMENT OF TRANSPORTATION

Federal Highway Administration

Alaska Federal Lands Long Range Transportation Plan

AGENCY: Federal Highway Administration (FHWA), Department of Transportation (DOT).

ACTION: Notice of availability; request for comments.

SUMMARY: The Federal Highway Administration, along with the Bureau of Land Management, Fish and Wildlife Service, Forest Service and National Park Service, announce the availability of the draft Alaska Federal Lands Long Range Transportation Plans (LRTP) for public review and comment. The draft plans outline a strategy for a multi-agency approach to improving and maintaining transportation assets that provide access to Federal Lands in the Alaska region over the next 20 years.

DATES: Please provide your comments by March 12, 2012.

ADDRESSES: See Supplementary Information section for address to obtain copies or make comments.

FOR FURTHER INFORMATION CONTACT:

Federal Highway Administration (FHWA), DOT: Roxanne Bash, (360) 619-7558.

Bureau of Land Management (BLM), DOI: Randy Goodwin, (907) 474-2369.

Fish and Wildlife Service (FWS), DOI: Helen Clough, (907) 786-3353.

Forest Service (FS) USDA: Marie Messing, (907) 586-8834.

National Park Service (NPS), DOI: Paul Schrooten, (907) 644-3388.

SUPPLEMENTARY INFORMATION: Title 23 United States Code Section 204 requires all Federal land management agencies to conduct long range transportation planning in a manner that is consistent with metropolitan planning organizations and state departments of transportation.

With this notice the multi-agency Federal Lands draft LRTP and the agency specific drop-down draft LRTPs are now available for public review and comment.

Alaska Federal Lands draft LRTP—This draft plan describes the benefits of and actions for coordinated planning and decision making among federal land management agencies (FLMA) involved in this Alaska Federal Lands Long Range Transportation Plan (Alaska Federal Lands LRTP). This draft plan results from a partnership among the National Park Service (NPS); U.S. Fish and Wildlife Service (FWS); U.S. Department of Agriculture, Forest Service (FS); Bureau of Land Management (BLM); Alaska Department of Transportation and Public Facilities (ADOT&PF); and the Federal Highway Administration (FHWA), Western Federal Lands Highway Division (WFLHD). The final LRTP will assist FLMAs to consolidate efforts through long-term coordination in transportation planning and decision-making processes. Such cooperation is accomplished through developing common goals and objectives; setting priorities for implementing projects; facilitating objective decision making for the transportation system; and developing common actions that benefit each FLMA in furthering the common goals and objectives. The key objective of such a planning process is to develop and maintain a coordinated, “seamless” transportation system for public and administrative access to Federal lands.

Agency Specific Drop-down draft LRTPs—To provide information for the multi-agency plan, each federal agency has also prepared it's own draft long range transportation plan, called a drop-down draft LRTP, for the portions of the state's transportation system within that agency's jurisdiction. The drop-down final LRTPs enable each agency to outline the transportation facilities within their jurisdiction as well as the existing and future needs for those facilities. Drop-down draft LRTPs will elaborate upon topics discussed in the Alaska Federal Lands final LRTP with agency-specific details including baseline conditions, transportation needs and gaps, project selection processes, funding opportunities, performance measures, and recommended future actions. All agencies are coordinating with the Alaska Department of Transportation and Public Facilities (ADOT&PF) during the development of these plans, and the information resulting from these planning efforts will inform the Alaska Federal Lands LRTP.

Draft LRTPs are available on our project Web site: http://www.akfedlandslrtp.org/. Submit comments for any or all plans electronically through the NPS Planning, Environment and Public Comment system (PEPC) at http://parkplanning.nps.gov.

We also have a limited number of printed and CD-ROM copies of the draft plans. You may request a copy or submit written comments at the following address:

Steve Hoover; Attn: Alaska LRTP; 4601 DTC Blvd., Suite 700; Denver, CO 80237.

Next Steps—After this comment period ends, we will analyze the comments and address them in the form of final LRTPs.

Public Availability of Comments—Before including your address, phone number, email address, or other personal identifying information in your comment, you should be aware that your entire comment—including your personal identifying information—may be made publicly available at any time. While you can ask us in your comment to withhold your personal identifying information from public review, we cannot guarantee that we will be able to do so.

Authority: 23 U.S.C. 204

Dated: November 28, 2011.
Clara H. Conner,
Division Engineer, Western Federal Lands Highway Division, FHWA, Vancouver, Washington.

[FR Doc. 2011-31338 Filed 12-9-11; 8:45 am]

BILLING CODE 4910-36-M